DEPARTMENT OF HOMELAND SECURITY

U.S. Customs and Border Protection

19 CFR Part 102

[CBP Dec. 12-15]

Technical Corrections Relating to the Rules of Origin for Goods Imported Under the NAFTA and for Textile and Apparel Products

AGENCIES: U.S. Customs and Border Protection, Department of Homeland Security.

ACTION: Final rule; technical corrections.

SUMMARY: This document sets forth technical corrections to part 102 of the U.S. Customs and Border Protection (CBP) regulations to reflect recent changes in the Harmonized Tariff Schedule of the United States. The affected provisions in part 102 of title 19 of the Code of Federal Regulations which are based in part on specified changes in tariff classification, comprise a codified system used for determining the country of origin of goods imported under the North American Free Trade Agreement (NAFTA), determining whether an imported good is a new or different article of commerce under the United States-Morocco Free Trade Agreement and the United States- Bahrain Free Trade Agreement, and for the country of origin of textile and apparel products (other than those of Israel).

DATES: This final rule is effective on September 25, 2012.

FOR FURTHER INFORMATION CONTACT: Tamar Anolic, Tariff Classification and Marking Branch, Regulations and Rulings, Office of International Trade, (202) 325-0036.

SUPPLEMENTARY INFORMATION:

Background

Section 102.20 of Title 19 of the CBP regulations (19 CFR 102.20) prescribes the tariff shift rules that are used to determine whether a good is considered a good of a NAFTA country (United States, Canada or Mexico). These tariff shift rules also determine whether an imported good is a new or different article of commerce under the United States-Morocco Free Trade Agreement and the United States-Bahrain Free Trade Agreement. Section 102.21 provides the rules of origin relating to trade in textile and apparel products, other than those that are products of Israel.

Need for Correction

Pursuant to section 1205 of the Omnibus Trade and Competitiveness Act of 1988 (codified at 19 U.S.C. 3005), the International Trade Commission (ITC) is required to keep the Harmonized Tariff Schedule of the United States (HTSUS) under continuous review and prepare investigations proposing modifications to the HTSUS to the President. In February 2010, the ITC issued Investigation No. 1205-7, Proposed Modifications to the Harmonized Tariff Schedule of the United States, Publication No. 8771. The modifications proposed in the report were effective on February 3, 2012, pursuant to Presidential Proclamation 8771 which was published in the Federal Register on January 4, 2012 (77 FR 413).

As a result of the 2012 modifications to the HTSUS, certain tariff provisions have been added or removed, and certain goods have been transferred, for tariff classification purposes, to different or newly-created tariff provisions. The changes to the HTSUS involve product coverage and/or numbering of certain headings and subheadings and are not intended to have any other substantive effect. Accordingly, this document makes technical corrections to §§ 102.20 and 102.21 in order for the regulations to conform the tariff shift rules to the current version of the HTSUS. In addition, this document also corrects typographical errors in certain subheadings of Chapter 90 that occurred when the regulations were updated for the 2007 HTSUS.

The examples set forth below illustrate the need for the technical corrections to §§ 102.20 and 102.21 described above.

Example 1: Pursuant to the existing terms of § 102.20(o), the tariff shift rule for subheading 8479.90, HTSUS, permits a tariff shift “to subheading 8479.90 from any other heading, except from heading 8501 when resulting from a simple assembly.” Prior to the 2012 amendments to the HTSUS, parts of water-jet cutting machines were classified in subheading 8479.90, HTSUS, and therefore was subject to the above tariff shift rule. This rule was satisfied when any good classified outside heading 8479, except goods classified in heading 8501, HTSUS, that resulted from a simple assembly, were processed into parts of water-jet cutting machines of subheading 8479.90, HTSUS. Under the 2012 amendments to the HTSUS, however, parts of water-jet cutting machines moved from subheading 8479.90, HTSUS, to heading 8466, HTSUS, a different heading. As a result, parts of water-jet cutting machines (now classified in heading 8466, HTSUS) would presently satisfy the tariff shift rule set forth above, when it would not have satisfied it in its prior classification. In order to maintain the original result of the tariff shift rule for 8479.90, HTSUS, the tariff shift rule in § 102.20(o) must be amended to provide for “A change to subheading 8479.90 from any other heading, except from heading 8501 when resulting from a simple assembly and except from parts of water-jet cutting machines of heading 8466.”

Example 2: Under the 2012 amendments to the HTSUS, a heading was created at 3826, HTSUS, to provide for “biodiesel and mixtures thereof, not containing or containing less than 70% by weight of petroleum oils or oils obtained from bituminous minerals.” Prior to the 2012 amendments, these products were classified in the basket “other” provision under subheading 3824.90, HTSUS. As new heading 3826, HTSUS, is not included in the rules set forth in § 102.20(f), it is not possible to determine the origin of goods classifiable under this provision using the current regulations. Accordingly, § 102.20(f) must be amended in order to add heading 3826, HTSUS, and a new tariff shift rule added; furthermore, the tariff shift rule for subheading 3824.90 must be updated to reflect the shift in goods to the new heading 3826, HTSUS. It should be noted that these technical corrections to § 102.20(f) will produce the same result as when biodiesel and mixtures thereof, not containing or containing less than 70% by weight of petroleum oils or oils obtained from bituminous minerals were classified under subheading 3824.90, HTSUS, in the 2011 HTSUS.

Example 3: Under current § 102.20(d), there is a rule for subheadings 2009.41 through 2009.80, HTSUS. Under the 2012 amendments to the HTSUS, subheading 2009.80, HTSUS, which covers “Juice of any other single fruit or vegetable,” was deleted, with the goods moving to subheadings 2009.81 and 2009.89. As a result, the tariff shift rule for heading 2009.41-2009.80, HTSUS, has been renumbered to reflect that subheading 2009.80, HTSUS, was deleted, and reflect the new range of tariff subheadings. Thus the new rules provides for “A change to subheading 2009.41 through 2009.89 from any other chapter.”

Example 4: Under current § 102.20(d), there is a rule for subheadings 9031.41 through 9031.49, HTSUS. When this rule was updated in 2008 following changes to the 2007 HTSUS, it included references to subheadings 9030.41 through 9030.49, HTSUS, which are incorrect because no such subheadings exists in the tariff schedule. As a result, the 2012 technical update corrects the rule for subheadings 9031.41 through 9031.49, HTSUS. Please note that this change to subheading numbers is being made solely to correct typographical errors and does not reflect any updates to the 2012 HTSUS.

Inapplicability of Notice and Delayed Effective Date

Pursuant to 5 U.S.C. 553(b)(B) and (d)(3), CBP has determined that it would be impracticable and contrary to the public interest to delay publication of this rule in final form pending an opportunity for public comment and that there is good cause for this final rule to become effective immediately upon publication. The technical corrections contained in this document merely conform the tariff shift rules in the regulations to the current HTSUS and will facilitate trade by ensuring that country of origin determinations made using the regulations are consistent with the HTSUS.

Regulatory Flexibility Act

Because this document is not subject to the notice and public procedure requirements of 5 U.S.C. 553, it is not subject to the provisions of the Regulatory Flexibility Act (5 U.S.C. 601 et seq.).

Executive Order 12866

These amendments do not meet the criteria for a “significant regulatory action” as specified in Executive Order 12866.

Signing Authority

While the subject matter of this document pertains to the authority of the Secretary of the Treasury to approve regulations relating to certain revenue functions (see 19 CFR Part 0), CBP retains authority pursuant to Treasury Directive 28-01 to sign a document making nonsubstantive technical corrections to a previously issued regulation. For this reason, the CBP Commissioner is the proper official to sign this document.

List of Subjects in 19 CFR Part 102

Customs duties and inspections, Imports, Reporting and recordkeeping requirements, Rules of origin, Trade agreements.

Amendments to the CBP Regulations

For the reasons set forth above, part 102 of title 19 of the Code of Federal Regulations (19 CFR part 102) is amended as set forth below:

PART 102—RULES OF ORIGIN

1. The authority citation for part 102 continues to read as follows:

Authority: 19 U.S.C. 66, 1202 (General Note 3(i), Harmonized Tariff Schedule of the United States), 1624, 3314, 3592.

2. In § 102.20:

a. The table is amended by removing the entries for: “0305.30”, “0305.41-0305.69”, “2903.41-2903.49”, “2903.51-2904.90”, “2914.21-2914.22”, “4808.20-4808.30”, “6406.20-6406.99”, “6505.10”, “6811.83”, “8452.30-8452.40”, “9007.11-9007.19”, “9008.10-9008.40”, and “9504.10-9506.29”;

b. The table is further amended by adding, in numerical order, entries for: “0305.31-0305.39”, “0305.41-0305.79”, “0308”, “2903.71-2903.79”, “2903.81-2904.90”, “2914.22”, “3826.00”, “4808.40”, “6406.20-6406.90”, “6505.00”, “8452.30”, “9007.10”, “9008.50”, “9504.20-9506.29”, and “9619.00”;

c. The table is further amended by revising the entries in the “Tariff shift and/or other requirements” column adjacent to the “HTSUS” column listing for: “0306”, “0307”, “1601-1605”, “2009.41-2009.80”, “2826.12-2833.19”, “2835.29-2835.39”, “2842.10”, “2848”, “2849.10-2849.90”, “2850”, “2852”, “2933.11-2934.99”, “2937-2941”, “3002.10-3002.90”, “3201.10-3202.90”, “3501.10-3501.90”, “3502.20-3502.90”, “3503-3504”, “3808.99”, “3824.71-3824.90”, “3901-3915”, “3922-3926”, “4817-4822”, “7411-7418”, “8425.11-8430.69”, “8452.90”, “8456.10-8456.90”, “8466.10-8466.94”, “8479.10-8479.89”, “8479.90”, “8507.10-8507.80”, “9031.41- 9031.49” and “9608.10-9608.40”.

The additions and revisions read as follows:

§ 102.20 Specific rules by tariff classification.

* * * * *

HTSUS | Tariff shift and/or other requirements
* * * * * * *
0305.31-0305.39 | A change to subheading 0305.31 through 0305.39 from any other subheading outside that group, except from fillets of heading 0304.
0305.41-0305.79 | A change to subheading 0305.41 through 0305.79 from any other chapter.
0306 | A change to heading 0306, other than a change to smoked goods of heading 0306, from any other chapter; or A change to smoked goods of heading 0306 from other goods of chapter 3 or from any other chapter, except from chapter 16; or A change to any good of heading 0306 from a smoked good of heading 0306.
0307 | A change to heading 0307, other than a change to smoked goods of heading 0307, from any other chapter; or A change to edible meals and flours from within chapter 3; or A change to smoked goods of heading 0307 from other goods of chapter 3 or from any other chapter, except from chapter 16; or A change to any good of heading 0307 from a smoked good of heading 0307.
0308 | A change to heading 0308, other than a change to smoked goods of heading 0308, from any other chapter; or A change to edible meals and flours from within chapter 3; or A change to smoked goods of heading 0308 from any other good of chapter 3 or from any other chapter, except from chapter 16; or A change to any good of heading 0308 from a smoked good of heading 0308.
* * * * * * *
1601-1605 | A change to heading 1601 through 1605 from any other chapter, except from smoked products of heading 0306 through 0308.
* * * * * * *
2009.41-2009.80 | A change to subheading 2009.41 through 2009.89 from any other chapter.
* * * * * * *
2826.12-2833.19 | A change to fluorides of ammonium or of sodium of subheading 2826.19 from any other good of subheading 2826.19 or from any other subheading; or
| A change to any other good of subheading 2826.19 from fluorides of ammonium or of sodium of subheading 2826.19 or from any other subheading; or
| A change to fluorosilicates of sodium or of potassium of subheading 2826.90 from any other good of subheading 2826.90 or from any other subheading; or
| A change to any other good of subheading 2826.90 from fluorosilicates of sodium or of potassium of subheading 2826.90 or from any other subheading; or
| A change to chlorides of iron of subheading 2827.39 from any other good of subheading 2827.39 or from any other subheading; or
| A change to chlorides of cobalt of subheading 2827.39 from any other good of subheading 2827.39 or from any other subheading; or
| A change to chlorides of zinc of subheading 2827.39 from any other good of subheading 2827.39 or from any other subheading; or
| A change to any other good of subheading 2827.39 from chlorides of iron, of cobalt, or of zinc of subheading 2827.39 or from any other subheading; or
| A change to zinc sulphide of subheading 2830.90 from any other good of subheading 2830.90 or from any other subheading; or
| A change to cadmium sulphide of subheading 2830.90 from any other good of subheading 2830.90 or from any other subheading; or
| A change to any other good of subheading 2830.90 from zinc sulphide or cadmium sulphide of subheading 2830.90 or from any other subheading; or
| A change to subheading 2826.12 through 2833.19 from any other subheading, including another subheading within that group, except for a change from sulphides and polysulphides, of subheading 2852.90 to subheading 2830.90.
* * * * * * *
2835.29-2835.39 | A change to phosphates of trisodium of subheading 2835.29 from any other good of subheading 2835.29 or from any other subheading; or
| A change to any other good of subheading 2835.29 from phosphates of trisodium of subheading 2835.29 or from any other subheading; or
| A change to subheading 2835.29 through 2835.39 from any other subheading, including another subheading within that group, except for a change from phosphinates (hypophosphites), phosphonates (phosphites) and phosphates, and polyphosphates of subheading 2852.90 to subheading 2835.39.
* * * * * * *
2842.10 | A change to subheading 2842.10 from any other subheading, except for a change from double or complex silicates, including aluminosilicates, of subheading 2852.90 to subheading 2842.10.
* * * * * * *
2848 | A change to heading 2848 from any other heading, except for a change from phosphides, excluding ferrophosphorus, of subheading 2852.90.
2849.10-2849.90 | A change to subheading 2849.10 through 2849.90 from any other subheading, including another subheading within that group, except for a change from carbides of 2852.90.
2850 | A change to heading 2850 from any other heading, except for a change from hydrides, nitrides, azides, silicides, and borides (other than compounds which are also carbides of heading 28.49) of subheading 2852.90.
2852 | A change to other metal oxides, hydroxides or peroxides of heading 2852 from any other good of heading 2852 or from any other heading, provided that the good is the product of a “chemical reaction“, as defined in Note 1, except from subheading 2825.90; or
| A change to other fluorides of heading 2852 from any other good of heading 2852 or from any other heading, except from subheading 2826.19; or
| A change to other chlorides of heading 2852 from any other good of heading 2852 or from any other heading, except from subheading 2827.39; or
| A change to other bromides or to bromide oxides from any other good of heading 2852 or from any other heading, except from subheading 2827.59; or
| A change to iodides or to iodide oxides of heading 2852 from any other good of heading 2852 or from any other heading, except from subheading 2827.60; or
| A change to other chlorates of heading 2852 from any other good of heading 2852 or from any other heading, except from subheading 2829.19; or
| A change to other perchlorates, bromotes, perbromates, iodates or periodates of heading 2852 from any other good of heading 2852 or from any other heading, except from subheading 2829.90; or
| A change to other sulphides or polysulphides, whether or not chemically defined, of heading 2852 from any other good of heading 2852 (except for sulphides or polysulphides of subheading 2852.90) or from any other heading, except from subheading 2830.90; or
| A change to other sulfates of heading 2852 from any other good of heading 2852 or from any other heading, except from heading 2520 or from subheading 2833.29; or
| A change to other nitrates of heading 2852 from any other good of heading 2852 or from any other heading, except from subheading 2834.29; or
| A change to other phosphates from any other good of heading 2852 or from any other heading, except from subheading 2835.29; or
| A change to polyphosphates other than those of sodium triphosphate (sodium tripolyphosphate) of subheading 2852.90 from any other good of heading 2852 or from any other heading, except from subheading 2835.39; or
| A change to other cyanides or to cyanide oxides of heading 2852 from any other good of heading 2852 or from any other heading, except from subheading 2837.19; or
| A change to complex cyanides of heading 2852 from any other good of heading 2852 or from any other heading, except from subheading 2837.20; or
| A change to fulminates, cyanates or thiocyanates of heading 2852 from any other good of heading 2852 or from any other heading; or
| A change to any other good of subheading 2852.90 from fulminates, cyanates, and thiocyanates of subheading 2852.90 or from any other subheading, provided that the good classified in subheading 2852.90 is the product of a “chemical reaction” as defined in Note 1; or
| A change to other chromates, dichromates or peroxochromates of heading 2852 from any other good of heading 2852 or any other heading, except from heading 2610, or from subheading 2841.50; or
| A change to double or complex silicates, including aluminosilicates, of subheading 2852.90 from any other good of heading 2852 or from any other heading, except from subheading 2842.10; or
| A change to other salts of inorganic acids or to peroxoacids, other than azides, of heading 2852 from any other good of heading 2852 or from any other heading, provided that the good classified in heading 2852 is the product of a “chemical reaction” as defined in Note 1, except from subheading 2842.90; or
| A change to other silver compounds of heading 2852 from any other good of heading 2852 or from any other heading, except from subheading 2843.29; or
| A change to phosphides, excluding ferrophosphorus, of subheading 2852.90 from any other good of heading 2852 or any other heading, except from heading 2848; or
| A change to carbides of 2852.90 from any other good of heading 2852 or any other heading, except from subheading 2849.90; or
| A change to hydrides, nitrides, azides, silicides and borides, other than compounds which are also carbides of heading 2849, of subheading 2852.90 from any other good of heading 2852 or any other heading, except from heading 2850; or
| A change to derivatives containing only sulpho groups, their salts and esters from any other good of heading 2852 or from any other heading, except from heading 2908; or
| A change to palmitic acid, stearic acid, their salts or their esters from any other good of heading 2852 or from any other heading, except from subheading 2915.70; or
| A change to oleic, linolenic or linolenic acids, their salts or their esters from any other good of heading 2852 or from any other heading, except from subheading 2916.15; or
| A change to benzoic acid, its salts or its esters from any other good of heading 2852 or from any other heading, except from subheading 3301.90 or subheading 2916.31; or
| A change to lactic acid, its salts or its esters from any other good of heading 2852 or from any other heading, except 2918.11; or
| A change to other organo-inorganic compounds of heading 2852 from any other good of heading 2852 or from any other heading, except from heading 2931; or
| A change to nucleic acids and their salts or other heterocyclic compounds of subheading 2852.90 from any other good of heading 2852 or any other heading, except from subheading 2934.99; or
| A change to tanning extracts of vegetable origin or tannins and their salts, ethers, esters, and other derivatives of 2852.90 from any other good of heading 2852 or any other heading, except from subheading 3201.90; or
| A change to caseinate and other casein derivatives or casein glues of subheading 2852.90 from any other good of heading 2852 or any other heading, except from subheading 3501.90; or
| A change to albumins, albuminates, and other albumin derivatives of subheading 2852.90 from any other good of heading 2852 or any other heading, except from subheading 3502.90; or
| A change to peptones and their derivatives, other protein substances and their derivatives, not elsewhere specified or included, or hide powder of subheading 2852.90 from any other good of heading 2852 or any other heading, except from heading 3504; or
| A change to naphthenic acids, their water-insoluble salts, or their esters of subheading 2852.90 from any other good of heading 2852 or any other heading; or
| A change to prepared binders for foundry moulds or cores or chemical products and preparations of the chemical or allied industries of subheading 2852.90 from naphthenic acids, their water-insoluble salts, or their esters of subheading 2852.90 or any other subheading, provided that no more than 60 percent by weight of the good classified in this subheading is attributable to one substance or compound, except from other chemical products or preparations of the chemical or allied industries (including those consisting of mixtures of natural products), not elsewhere specified or included, of subheading 3824.71, or 3824.73 through 3824.79; or
| A change to prepared binders for foundry moulds or cores or chemical products and preparations of the chemical or allied industries of subheading 2852.90 from any other subheading, provided that no more than 60 percent by weight of the good classified in this subheading is attributable to one substance or compound.
* * * * * * *
2903.71-2903.79 | A change to subheading 2903.71 through 2903.79 from any other subheading outside that group.
2903.81-2904.90 | A change to aldrin (ISO), chlordane (ISO) or heptachlor (ISO) of subheading 2903.82 from any other subheading, except from subheading 2903.89; or A change to any other good of subheading 2903.89 from any other subheading, except from subheading 2903.82; or A change to subheading 2903.81 through 2904.90 from any other subheading within that group.
* * * * * * *
2914.22 | A change to subheading 2914.22 from any other subheading, including another subheading within that group.
* * * * * * *
2933.11-2934.99 | 2933.11-2934.99: A change to subheading 2933.11 through 2934.99 from any other subheading, including another subheading within that group, except for a change to subheading 2933.29 from heterocyclic compounds with nitrogen hetero-atom(s) only of subheading 3002.10 and except for a change to subheading 2934.99 from nucleic acids and their salts or other heterocyclic compounds of subheading 2852.90 or subheading 3002.10.
* * * * * * *
2937-2941 | A change to heading 2937 through 2941 from any other heading, including another heading within that group, except a change to concentrates of poppy straw of subheading 2939.11 from poppy straw extract of subheading 1302.19 and except for a change to subheading 2937.90 from other hormones, prostagladins, thromboxanes and leukotrienes, natural or reproduced by synthesis, derivatives and structural analogues thereof, including chain modified polypeptides, used primarily as hormones of subheading 3002.10.
* * * * * * *
3002.10-3002.90 | A change to subheading 3002.10 through 3002.90 from any other subheading including another subheading within that group, except a change from subheading 3006.92; or
| A change to imines and their derivatives, and salts thereof, other than chlordimeform (ISO) of subheading 3002.10 from any other subheading, except subheadings 2925.21 through 2925.29; or
| A change to compounds containing an unfused imidazole ring (whether or not hydrogenated) in the structure of subheading 3002.10 from any other subheading, except from subheading 2933.29; or
| A change to nucleic acids and their salts or other heterocyclic compounds (other than those classified in subheadings 2934.10 through 2934.91) of subheading 3002.10 from any other subheading, except from subheading 2934.99; or
| A change to hormones, prostaglandins, thromboxanes and leukotrienes, natural or reproduced by synthesis or derivatives, and structural analogues thereof, including chain modified polypeptides, used primarily as hormones (other than those classified in subheadings 2937.11 through 2937.50) of subheading 3002.10 from any other heading, except from heading 2937; or
| A change to other polyethers of subheading 3002.10 from any other heading, except from heading 3907, provided that the domestic polymer content is no less than 40 percent by weight of the total polymer count.
* * * * * * *
3201.10-3202.90 | A change to subheading 3201.10 through 3202.90 from any other subheading, including another subheading within that group, except for a change to subheading 3201.90 from tanning extracts of vegetable origin or tannins and their salts, ethers, esters, and other derivatives, of subheading 2852.90.
* * * * * * *
3501.10-3501.90 | A change to subheading 3501.10 through 3501.90 from any other subheading, including another subheading within that group, except for a change to subheading 3501.90 from caseinates and other casein derivatives or casein glues of subheading 2852.90.
* * * * * * *
3502.20-3502.90 | A change to subheading 3502.20 through 3502.90 from any other subheading, including another subheading within that group, except for a change to subheading 3502.90 from albumins (including concentrates of two or more whey proteins, containing by weight more than 80 percent whey proteins, calculated on the dry matter), albuminates, and other albumin derivatives of 2852.90.
3503-3504 | A change to heading 3503 through 3504 from any other heading, including another heading within that group, except for a change to subheading 3504.00 from peptones and their derivatives or other protein substances and their derivatives or hide powder of 2852.90.
* * * * * * *
3808.99 | A change to subheading 3808.99 from any other subheading, except from rodenticides or other pesticides classified in chapter 28 or 29 or subheading 3808.50; or A change to a mixture of subheading 3808.99 from any other subheading, provided that the mixture is made from two or more active ingredients and a domestic active ingredient constitutes no less than 40 percent by weight of the total active ingredients, except from rodenticides or other pesticides classified in chapter 28 or 29 or subheading 3808.50.
* * * * * * *
3824.71-3824.90 | A change to subheading 3824.71 from other chemical products or preparations of the chemical or allied industries (including those consisting of mixtures of natural products), not elsewhere specified or included, of subheading 3824.71 or from any other subheading, provided that no more than 60 percent by weight of the good classified in this subheading is attributable to one substance or compound; or
| A change to other chemical products or preparations of the chemical or allied industries (including those consisting of mixtures of natural products), not elsewhere specified or included of subheading 3824.71 from any other good of subheading 3824.71 or from any other subheading, except from other chemical products or preparations of the chemical or allied industries (including those consisting of mixtures of natural products), not elsewhere specified or included, of subheading 2852.90, 3824.73 through 3824.79, 3824.90, or 3826.00; or
| A change to subheading 3824.72 from any other subheading, provided that no more than 60 percent by weight of the good classified in this subheading is attributable to one substance or compound, except from other mixtures containing perhalogenated derivatives of acyclic hydrocarbons containing two or more different halogens of subheading 3824.73 through 3824.79; or
| A change to other mixtures of halogenated hydrocarbons of subheading 3824.73 from any other subheading, provided that no more than 60 percent by weight of the good classified in this subheading is attributable to one substance or compound, except from other chemical products or preparations of the chemical or allied industries (including those consisting of mixtures of natural products), not elsewhere specified or included, of subheading 2852.90, 3824.71, or 3824.74 through 3824.79, 3824.90, or 3826.00; or
| A change to other mixtures containing perhalogenated derivatives of acyclic hydrocarbons containing two or more different halogens of subheading 3824.73 from any other subheading, provided that no more than 60 percent by weight of the good classified in this subheading is attributable to one substance or compound, except from other mixtures containing perhalogenated derivatives of acyclic hydrocarbons containing two or more different halogens of subheading 3824.72, or 3824.74 through 3824.79; or
| A change to other mixtures of halogenated hydrocarbons of subheading 3824.74 from any other subheading, provided that no more than 60 percent by weight of the good classified in this subheading is attributable to one substance or compound, except from other chemical products or preparations of the chemical or allied industries (including those consisting of mixtures of natural products), not elsewhere specified or included, of subheading 2852.90, 3824.71, 3824.73, 3824.75 through 3824.79, or 3826.00, and except from subheading 3824.90; or
| A change to other mixtures containing perhalogenated derivatives of acyclic hydrocarbons containing two or more different halogens of subheading 3824.73 from any other subheading, provided that no more than 60 percent by weight of the good classified in this subheading is attributable to one substance or compound, except from other mixtures containing perhalogenated derivatives of acyclic hydrocarbons containing two or more different halogens of subheading 3824.72, or 3824.74 through 3824.79; or
| A change to other mixtures of halogenated hydrocarbons of subheading 3824.74 from any other subheading, provided that no more than 60 percent by weight of the good classified in this subheading is attributable to one substance or compound, except from other chemical products or preparations of the chemical or allied industries (including those consisting of mixtures of natural products), not elsewhere specified or included, of subheading 2852.90, 3824.71, 3824.73, 3824.75 through 3824.79, or 3826.00, and except from subheading 3824.90; or
| A change to other mixtures containing perhalogenated derivatives of acyclic hydrocarbons containing two or more different halogens of subheading 3824.74 from any other subheading, provided that no more than 60 percent by weight of the good classified in this subheading is attributable to one substance or compound, except from other mixtures containing perhalogenated derivatives of acyclic hydrocarbons containing two or more different halogens of subheading 3824.72 through 3824.73 and subheading 3824.75 through 3824.79; or
| A change to subheading 3824.75 from any other subheading, provided that no more than 60 percent by weight of the good classified in this subheading is attributable to one substance or compound, except from other chemical products or preparations of the chemical or allied industries (including those consisting of mixtures of natural products), not elsewhere specified or included, of subheading 2852.90, 3824.71, 3824.73 through 3824.74, subheading 3824.76 through 3824.79, 3824.90, or 3826.00; or
| A change to subheading 3824.76 from any other subheading, provided that no more than 60 percent by weight of the good classified in this subheading is attributable to one substance or compound, except from other chemical products or preparations of the chemical or allied industries (including those consisting of mixtures of natural products), not elsewhere specified or included, of subheading 2852.90, 3824.71, 3824.73 through 3824.75, 3824.77 through 3824.79, 3824.90, or 3826.00; or
| A change to subheading 3824.77 from any other subheading, provided that no more than 60 percent by weight of the good classified in this subheading is attributable to one substance or compound, except from other chemical products or preparations of the chemical or allied industries (including those consisting of mixtures of natural products), not elsewhere specified or included, of subheading 2852.90, 3824.71, 3824.73 through 3824.76, 3824.78 through 3824.79, 3824.90, or 3826.00; or
| A change to subheading 3824.78 from any other subheading, provided that no more than 60 percent by weight of the good classified in this subheading is attributable to one substance or compound, except from other mixtures containing perhalogenated derivatives of acyclic hydrocarbons containing two or more different halogens of subheading 3824.72 through 3824.77 or 3824.79; or
| A change to mixtures of halogenated hydrocarbons of subheading 3824.79 from any other subheading, provided that no more than 60 percent by weight of the good classified in this subheading is attributable to one substance or compound, except from other chemical products or preparations of the chemical or allied industries (including those consisting of mixtures of natural products), not elsewhere specified or included of subheading 2852.90, 3824.71, 3824.73 through 3824.78, or 3826.00, and except from subheading 3824.90; or
| A change to other mixtures containing perhalogenated derivatives of acyclic hydrocarbons containing two or more different halogens of subheading 3824.79 from any other subheading, provided that no more than 60 percent by weight of the good classified in this subheading is attributable to one substance or compound, except from other mixtures containing perhalogenated derivatives of acyclic hydrocarbons containing two or more different halogens of subheading 3824.72 through 3824.78;
| A change to naphthenic acids, their water-insoluble salts or their esters of subheading 3824.90 from any other good of subheading 3824.90 or from any other subheading; or
| A change to any other good of subheading 3824.90 from naphthenic acids, their water-insoluble salts or their esters of subheading 3824.90 or from any other subheading, provided that no more than 60 percent by weight of the good classified in this subheading is attributable to one substance or compound, except from other chemical products or preparations of the chemical or allied industries (including those consisting of mixtures of natural products), not elsewhere specified or included, of subheading 3824.71, or 3824.73 through 3824.79; or
| A change to any other good of subheading 3824.71 through 3824.90 from any other subheading, including another subheading within that group, provided that no more than 60 percent by weight of the good classified in this subheading is attributable to one substance or compound.
* * * * * * *
3826.00 | A change to prepared binders for foundry moulds or cores or chemical products and preparations of the chemical or allied industries of subheading 3826.00 from naphthenic acids, their water-insoluble salts, or their esters of subheading 3826.00 or any other subheading, provided that no more than 60 percent by weight of the good classified in this subheading is attributable to one substance or compound, except from other chemical products or preparations of the chemical or allied industries (including those consisting of mixtures of natural products), not elsewhere specified or included, of subheading 3824.71, or 3824.73 through 3824.79; or
| A change to prepared binders for foundry moulds or cores or chemical products and preparations of the chemical or allied industries of subheading 3826.00 from any other subheading, provided that no more than 60 percent by weight of the good classified in this subheading is attributable to one substance or compound.
* * * * * * *
3901-3915 | A change to heading 3901 through 3915 from any other heading, including another heading within that group, except a change to 3907 from other polyethers of subheading 3002.10, provided that the domestic polymer content is no less than 40 percent by weight of the total polymer content.
* * * * * * *
3922-3926 | A change to heading 3922 through 3926 from any other subheading, including another heading within that group, except for a change to heading 3926 from articles of apparel and clothing accessories, other articles of plastics, or articles of other materials of headings 3901 to 3914 of heading 9619.
* * * * * * *
4808.40 | A change to subheading 4808.40 from any other heading, except from heading 4804.
* * * * * * *
4817-4822 | A change to heading 4817 through 4822 from any other heading, including another heading within that group, except for a change to heading 4818 from sanitary towels and tampons, napkin and napkin liners for babies, and similar sanitary articles, of paper pulp, paper, cellulose wadding, or webs of cellulose fibers, of heading 9619.
* * * * * * *
6406.20-6406.90 | A change to subheading 6406.20 through 6406.90 from any other chapter.
6505.00 | A change to hair-nets of subheading 6505.00 from any other subheading.
* * * * * * *
7411-7418 | A change to cooking or heating apparatus of a kind used for domestic purposes, non-electric and parts thereof, of copper, of subheading 7418.10 from any other good of subheading 7418.10 or from any other subheading; or
| A change to any other good of subheading 7418.10 from cooking or heating apparatus of a kind used for domestic purposes, non-electric and parts thereof, of copper, of subheading 7418.10 or from any other subheading; or
| A change to any other good of heading 7411 through 7418 from any other heading, including another heading within that group.
* * * * * * *
8425.11-8430.69 | A change to pit-head winding gears or to winches specially designed for use underground of subheading 8425.31 through 8425.39 from any other good of subheading 8425.31 through 8425.39 or from any other subheading; or
| A change to any other good of subheading 8425.31 through 8425.39 from pit-head winding gears or to winches specially designed for use underground of subheading 8425.31 through 8425.39 from any other good of subheading 8425.31 through 8425.39 or from any other subheading; or
| A change to mine wagon pushers, locomotive or wagon traversers, wagon tippers and similar railway wagon handling equipment of subheading 8428.90 from any other good of subheading 8428.90 or from any other subheading; or
| A change to any other good of subheading 8428.90 from mine wagon pushers, locomotive or wagon traversers, wagon tippers and similar railway wagon handing equipment of subheading 8428.90 or from any other subheading; or
| A change to any other good of subheading 8425.11 through 8430.69 from any other subheading, including another subheading within that group, except for a change to subheading 8428.90 from passenger boarding bridges of subheadings 8479.71 or 8479.79.
* * * * * * *
8452.30 | A change to subheading 8452.30 from any other subheading.
8452.90 | A change to goods of subheading 8452.90, other than a change to furniture, bases and covers for sewing machines, and parts thereof, from any other heading, except from heading 8501 when resulting from a simple assembly; or
| A change to furniture, bases and covers for sewing machines, and parts thereof from any other good of 8452.90 or from any other subheading.
* * * * * * *
8456.10-8456.90 | A change to subheading 8456.10 through 8456.90 from any other heading, other than a change to water-jet cutting machines of subheading 8456.90, except from machine-tools for dry-etching patterns on semiconductor materials of subheading 8486.20; or
| A change to water-jet cutting machines of subheading 8456.90 from any other good of subheading 8456.90 or from any other subheading, except from subheading 8479.89 or from subheading 8486.10 through 8486.40.
* * * * * * *
8466.10-8466.94 | A change to subheading 8466.10 through 8466.94, other than a change to parts of water-jet cutting machines of subheading 8466.93, from any other heading outside that group, except from heading 8501 when resulting from a simple assembly; or
| A change to parts of water-jet cutting machines of subheading 8466.93 from any other good of heading 8466 or from any other heading, except from heading 8479 or from heading 8501 when resulting from a simple assembly.
* * * * * * *
8479.10-8479.89 | A change to subheading 8479.10 through 8479.89, other than a change to passenger boarding bridges of subheading 8479.71 or 8479.79, from any other subheading, including another subheading within that group, except from subheading 8486.10 through 8486.40 and except for a change to 8479.89 from water-jet cutting machines of 8456.90; or
| A change to passenger boarding bridges of subheading 8479.71 or 8479.79 from any other subheading.
8479.90 | A change to subheading 8479.90 from any other heading, except from heading 8501 when resulting from a simple assembly and except from parts of water-jet cutting machines of heading 8466.
* * * * * * *
8507.10-8507.80 | A change to subheading 8507.10 through 8507.80 from any other subheading, including another subheading within that group, except for a change to subheading 8507.80 from subheading 8507.50 or 8507.60.
* * * * * * *
9007.10 | A change to subheading 9007.10 from any other good of subheading 9007.10 or from any other subheading.
* * * * * * *
9008.50 | A change to subheading 9008.50 from any other good of subheading 9008.50 or from any other subheading.
* * * * * * *
9031.41-9031.49 | A change to profile projectors of subheading 9031.49 from any other good of subheading 9031.49 or from any other subheading; or
| A change to any other good of subheading 9031.49 from a profile projector of subheading 9031.49 or from any other subheading, except from subheading 9031.41; or
| A change to any other good of subheading 9031.41 through 9031.49 from any other subheading outside that group.
* * * * * * *
9504.20-9506.29 | A change to subheading 9504.20 through 9506.29 from any other subheading, including another subheading within that group.
* * * * * * *
9608.10-9608.40 | A change to subheading 9608.10 through 9608.40 from any other subheading, including another subheading within that group; or
| A change to India ink drawing pens of subheading 9608.30 from any other good of subheading 9608.30; or
| A change to any other good of subheading 9608.30 from India ink drawing pens of subheading 9608.30.
* * * * * * *
9619.00 | A change to a plastic good of subheading 9619.00 from any other heading, except from heading 3926; or
| A change to a paper good of subheading 9619.00 from any other heading, except from heading 4818.
* * * * * * *

3. In § 102.21:

a. Paragraph (b)(5) is amended by removing the reference to “4202.92.05”;

b. Paragraph (b)(5) is further amended by adding, in numerical order, the reference to “4202.92.04-08”;

c. The table in paragraph (e)(1) is amended by removing the entries for: “4202.92.05”,”, “6210-6211”, “6212”, “6406.99.15”, and “6505.90”,” ;

d. The table in paragraph (e)(1) is further amended by adding, in numerical order, entries for: “4202.92-04-4202.92.08”, “6210-6212”, “6406.90.15”, “6505.00”, and “9619”;

e. The table in paragraph (e)(1) is further amended by revising the entries in the “Tariff shift and/or other requirements” column adjacent to the HTSUS” column listing for: “5601”, “6101-6117”, “6201-6208”, and “6209.20.5045-6209.90.9000””.

The additions and revisions read as follows:

§ 102.21 Textile and apparel products.

* * * * *

(e) * * * (1) * * *

HTSUS | Tariff shift and/or other requirements
* * * * * * *
4202.92.04-4202.92.08 | A change to subheadings 4202.92.04 through 4202.92.08 from any other heading, provided that the change is the result of the good being wholly assembled in a single country, territory or insular possession.
* * * * * * *
5601 | (1) A change to wadding of heading 5601 from any other heading, except from heading 5105, 5203, 5501 through 5507, and articles of wadding of heading 9619.
| (2) A change to flock, textile dust, mill neps, or articles of wadding, of heading 5601 from any other heading or from wadding of heading 5601.
* * * * * * *
6101-6117 | (1) If the good is not knit to shape and consists of two or more component parts, except for goods of subheading 6117.10 provided for in paragraph (e)(2) of this section, a change to an assembled good of heading 6101 through 6117 from unassembled components, provided that the change is the result of the good being wholly assembled in a single country, territory, or insular possession.
| (2) If the good is not knit to shape and does not consist of two or more component parts, except for goods of subheading 6117.10 provided for in paragraph (e)(2) of this section, a change to heading 6101 through 6117 from any heading outside that group, except from heading 5007, 5111 through 5113, 5208 through 5212, 5309 through 5311, 5407 through 5408, 5512 through 5516, 5806, 5809 through 5811, 5903, 5906 through 5907, 6001 through 6006, knitted or crocheted articles of heading 9619, and subheading 6307.90, and provided that the change is the result of a fabric-making process.
| (3) If the good is knit to shape, except for goods of subheading 6117.10 provided for in paragraph (e)(2) of this section, a change to 6101 through 6117 from any heading outside that group, except from knitted or crocheted articles of heading 9619, provided that the knit to shape components are knit in a single country territory or insular possession.
6201-6208 | (1) If the good consists of two or more component parts, a change to an assembled good of heading 6201 through 6208 from unassembled components, provided that the change is the result of the good being wholly assembled in a single country, territory, or insular possession.
| (2) If the good does not consist of two or more component parts, a change to heading 6201 through 6208 from any heading outside that group, except from heading 5007, 5111 through 5113, 5208 through 5212, 5309 through 5311, 5407 through 5408, 5512 through 5516, 5602 through 5603, 5801 through 5806, 5809 through 5811, 5903, 5906 through 5907, 6217, subheading 6307.90, and from an assembled women's or girls' singlet or other undershirt, brief, panty, negligee, bathrobe, dressing gown, or a similar article of heading 9619, and provided that the change is the result of a fabric-making process.
* * * * * * *
6209.20.5045-6209.90.9000 | (1) If the good consists of two or more component parts, a change to an assembled good of subheading 6209.20.5045 through 6209.90.9000 from unassembled components, provided that the change is the result of the good being wholly assembled in a single country, territory, or insular possession.
| (2) If the good does not consist of two or more component parts, a change to subheading 6209.20.5045 through 6209.90.9000 from any heading, except from heading 5007, 5111 through 5113, 5208 through 5212, 5309 through 5311, 5407 through 5408, 5512 through 5516, 5602 through 5603, 5801 through 5806, 5809 through 5811, 5903, 5906 through 5907, 6217, subheading 6307.90, and from babies' garments and clothing accessories of heading 9619, and provided that the change is the result of a fabric-making process.
* * * * * * *
6210-6212 | (1) If the good consists of two or more component parts, a change to an assembled good of heading 6210 through 6212 from unassembled components, provided that the change is the result of the good being wholly assembled in a single country, territory, or insular possession.
| (2) If the good does not consist of two or more component parts, a change to heading 6210 through 6212 from any heading outside that group, except from heading 5007, 5111 through 5113, 5208 through 5212, 5309 through 5311, 5407 through 5408, 5512 through 5516, 5602 through 5603, 5801 through 5806, 5809 through 5811, 5903, 5906 through 5907, 6001 through 6006, and 6217, subheading 6307.90, and from an assembled women's or girls' garment, made up of fabrics of heading 5602, 5603, 5903, 5906, or 5907, of heading 9619 or a girls', boys', men's, or women's garment, other than knitted or crocheted garments and other than a women's or girls' singlet or other undershirt, brief, panty, negligee, bathrobe, dressing gown, or a similar article from any other heading, provided that the change is the change is the result of a fabric-making process.
* * * * * * *
6406.90.15 | (1) If the good consists of two or more components, a change to subheading 6406.90.15 from any other heading, provided that the change is the result of the good being wholly assembled in a single country, territory, or insular possession.
| (2) If the good does not consist of two or more components, a change to subheading 6406.90.15 from any other heading, except from heading 5007, 5111 through 5113, 5208 through 5212, 5309 through 5311, 5407 through 5408, 5512 through 5516, 5602 through 5603, 5608, 5801 through 5804, 5806, 5808 through 5810, 5903, 5906 through 5907, and 6001 through 6006, and provided that the change is the result of a fabric-making process.
* * * * * * *
6505.00 | (1) For felt hats and other felt headgear, made from the hat bodies, hoods or plateaux of heading 6501, whether or not lined or trimmed, if the good consists of two or more components, a change to subheading 6505.00 from any other good of subheading 6505.00 or from any other subheading, provided that the change is the result of the good being wholly assembled in a single country, territory, or insular possession.
| (2) For felt hats and other felt headgear, made from the hat bodies, hoods or plateaux of heading 6501, whether or not lined or trimmed, if the good does not consist of two or more components, a change to subheading 6505.00 from any other subheading, except from heading 5602, and provided that the change is the result of a fabric making process.
| (3) For any other good, if the good consists of two or more components, a change to goods of subheading 6505.00, other than hair-nets, from any other heading, provided that the change is the result of the good being wholly assembled in a single country, territory, or insular possession.
| (4) For any other good, if the good does not consist of two or more components, a change to goods of subheading 6505.00, other than hair-nets, from any other heading, except from heading 5007, 5111 through 5113, 5208 through 5212, 5407 through 5408, 5512 through 5516, 5602 through 5603, 5609, 5801 through 5804, 5806, 5808 through 5811, 5903, 5906 through 5907, and 6001 through 6006, and provided that the change is the result of a fabric-making process.
* * * * * * *
9619 | (1) A change to articles of wadding of heading 9619 from any other heading, except from heading 5105, 5203, 5501 through 5507, and from 5601; or
| (2) If the good is not knit to shape and consists of two or more component parts, except for goods of subheading 6117.10 provided for in paragraph (e)(2) of this section, a change to an assembled knitted or crocheted article of heading 9619, from unassembled components, provided that the change is the result of the good being wholly assembled in a single country, territory, or insular possession; or
| (3) If the good is not knit to shape and does not consist of two or more component parts, except for goods of subheading 6117.10 provided for in paragraph (e)(2) of this section, a change to a knitted or crocheted article of heading 9619 from any other heading, except from heading 5007, 5111 through 5113, 5208 through 5212, 5309 through 5311, 5407 through 5408, 5512 through 5516, 5806, 5809 through 5811, 5903, 5906 through 5907, 6001 through 6006, 6101 through 6117; and subheading 6307.90, and provided that the change is the result of a fabric-making process; or
| (4) If the good is knit to shape, except for goods of subheading 6117.10 provided for in paragraph (e)(2) of this section, a change to a knitted or crocheted article of heading 9619 from any other heading, except from heading 6101 through 6117, provided that the knit to shape components are knit in a single country, territory, or insular possession; or
| (5) If the good consists of two or more component parts, a change to an assembled women's or girls' singlet or other undershirt, brief, panty, negligee, bathrobe, dressing gown, or a similar article of heading 9619 from unassembled components, provided that the change is the result of the good being wholly assembled in a single country, territory, or insular possession; or
| (6) If the good does not consist of two or more component parts, a change to a women's or girls' singlet or other undershirt, brief, panty, negligee, bathrobe, dressing gown, or a similar article of heading 9619 from any other heading, except from heading 5007, 5111 through 5113, 5208 through 5212, 5309 through 5311, 5407 through 5408, 5512 through 5516, 5602 through 5603, 5801 through 5806, 5809 through 5811, 5903, 5906 through 5907, 6201 through 6208, and 6217, and subheading 6307.90, and provided that the change is the result of a fabric-making process; or
| (7) The country of origin of a baby diaper of cotton classifiable in heading 9619 is the country, territory, or insular possession in which the fabric comprising the good was formed by a fabric-making process; or
| (8) If the good consists of two or more component parts, a change to an assembled baby garment of synthetic fiber or artificial fiber of heading 9619 from unassembled components, provided that the change is the result of the good being wholly assembled in a single country, territory, or insular possession; or
| (9) If the good does not consist of two or more component parts, a change to a baby garment of synthetic fiber or artificial fiber of heading 9619 from any other heading, except from heading 5007, 5111 through 5113, 5208 through 5212, 5309 through 5311, 5407 through 5408, 5512 through 5516, 5602 through 5603, 5801 through 5806, 5809 through 5811, 5903, 5906 through 5907, 6209, and 6217, and subheading 6307.90, and provided that the change is the result of a fabric-making process; or
| (10) If the good consists of two or more component parts, a change to an assembled women's or girls' garment, made up of fabrics of heading 5602, 5603, 5903, 5906, or 5907, of heading 9619 or a girls', boys', men's, or women's garment, other than knitted or crocheted garments and other than a women's or girls' singlet or other undershirt, brief, panty, negligee, bathrobe, dressing gown, or a similar article, from unassembled components, provided that the change is the result of the good being wholly assembled in a single country, territory, or insular possession;
| (11) If the good does not consist of two or more component parts, a change to an assembled women's or girls' garment, made up of fabrics of heading 5602, 5603, 5903, 5906, or 5907, of heading 9619 or a girls', boys', men's, or women's garment, other than knitted or crocheted garments and other than a women's or girls' singlet or other undershirt, brief, panty, negligee, bathrobe, dressing gown, or a similar article from any other heading, except from heading 5007, 5111 through 5113, 5208 through 5212, 5309 through 5311, 5407 through 5408, 5512 through 5516, 5602 through 5603, 5801 through 5806, 5809 through 5811, 5903, 5906 through 5907, 6001 through 6006, 6210 through 6212, and 6217, and subheading 6307.90, and provided that the change is the result of a fabric-making process; or
| (12) The country of origin of an other made up article of heading 9619 is the country, territory, or insular possession in which the woven fabric component of the good was formed by a fabric-making process.
* * * * * * *

* * * * *

Dated: September 18, 2012.
David V. Aguilar,
Deputy Commissioner, U.S. Customs and Border Protection.

[FR Doc. 2012-23499 Filed 9-24-12; 8:45 am]

BILLING CODE 9111-14-P